DEPARTMENT OF JUSTICE

Notice of Lodging of Consent Decrees With Monarch Greenback, LLC, the Article 5 Trusts, A.H. Burroughs, III, Karen Weaver Eccles and O.H. Davison Under the Comprehensive Environmental Response, Compensation and Liability Act and the Clean Water Act

Under 28 CFR 50.7, notice is hereby given that on March 22, 2006, two proposed Consent Decrees (Consent Decrees) in the case of United States v. Monarch Greenback, L.L.C., et al., Civil Action No. 02-436-S-EJL (D. Idaho), have been lodged with the United States District Court for the District of Idaho.

The Complaint sought the recovery of costs incurred in connection with response actions taken by the United States Environmental Protection Agency at the Talache Mine Tailings Superfund Site (the Site) near Atlanta, Idaho. Under the terms of the Consent Decrees, Defendants will pay the United States $66,000, as well as potential future payments that could total up to $200,000. Additionally, one of the Defendants, Monarch Greenback, LLC, agrees to establish and fund an escrow account to pay for operation and maintenance at the Site. In exchange, the United States will provide a covenant not to sue and contribution protection under the Comprehensive Environmental Response, Compensation and Liability Act to all of the Defendants. Additionally, the United States will provide a covenant not to sue under the Clean Water Act to the Article 5 Trusts, A.H. Burroughs, III, Karen Weaver Eccles and O.H. Davison.

The Department of Justice will receive for a period of thirty (30) days from the date of this publication comments relating to the Consent Decrees. Comments should be addressed to the Assistant Attorney General, Environmental and Natural Resources Division, P.O. Box 7611, U.S. Department of Justice, Washington, DC 20044-7611, and should refer to United States v. Monarch Greenback, L.L.C. et al., Civil Action No. 2-436-S-EJL (D. Idaho), DOJ Ref: 90-5-1-1-4541.

During the public comment period, the Consent Decree may be examined on the following Department of Justice Web site: http://www.usdoj.gov /enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $13,.25 (25 cents per page reproduction cost, without attachments) payable to the United States Treasury for payment.

Robert E. Maher, Jr.,
Assistant Section Chief, Environment Enforcement Section, Environment and Natural Resources Division.

[FR Doc. 06-3267 Filed 4-4-06; 8:45 am]

BILLING CODE 4410-15-M